ENVIRONMENTAL PROTECTION AGENCY

40 CFR Part 60

[CO-001-0056 and CO-001-0057-FRL-6951-1]

Standards of Performance for New Stationary Sources: Supplemental Delegation of Authority to the State of Colorado

Correction

In rule document 01-5416 beginning on page 13438, in the issue of Tuesday, March 6, 2001, make the following corrections:

§ 60.4 [Corrected]

1. On page 13440, §60.4(c), in the table, in the Subpart Heading, “MT-A ¹” should read “MT ¹”.

2. On the same page, in the same table, in the same heading,“SD-A ¹” should read “SD ¹”.

3. On the same page, in the same table, in the same heading,“UTA ¹” should read “UT ¹”.

[FR Doc. C1-5416 Filed 3-30-01; 8:45 am]

BILLING CODE 1505-01-D